DEPARTMENT OF VETERANS AFFAIRS

[OMB Control No. 2900-0554]

Agency Information Collection Activities Under OMB Review

AGENCY: Veterans Health Administration, Department of Veterans Affairs.

ACTION: Notice.

SUMMARY: In compliance with the Paperwork Reduction Act (PRA) of 1995 (44 U.S.C. 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATE: Comments must be submitted on or before March 19, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail to: denise.mclamb@mail.va.gov. Please refer to “OMB Control No. 2900-0554” in any correspondence.

SUPPLEMENTARY INFORMATION: Title: Homeless Provider Grant and Per Diem Program, VA Form 10-0361.

OMB Control Number: 2900-0554.

Type of Review: Reinstatement, with change, of a previously approved collection for which approval has expired.

Abstract: VA requires the applicant for grants and/or per diem to submit information that assists in the determination of funds to be awarded. The requested information addresses the ability of the organization to effectively administer a program and requires the organization to demonstrate the quality of the project, how homeless veterans will be targeted, need for the program, coordination with other agencies, and the project's cost effectiveness. If this information were not collected, VA would not be able to implement provisions of Public Law 102-592 in a responsible manner.

An agency may not conduct or sponsor, and a person is not required to respond to a collection of information unless it displays a currently valid OMB control number. The Federal Register Notice with a 60-day comment period soliciting comments on this collection of information was published on August 31, 2000, at page 53093.

Affected Public: Not-for-profit institutions and State, Local or Tribal Governments.

Estimated Annual Burden: 38,500 hours.

Estimated Average Burden Per Respondent: 35 hours.

Frequency of Response: On occasion.

Estimated Number of Respondents: 1,100.

Send comments and recommendations concerning any aspect of the information collection to VA's OMB Desk Officer, OMB Human Resources and Housing Branch, New Executive Office Building, Room 10235, Washington, DC 20503 (202) 395-7316. Please refer to “OMB Control No. 2900-0554” in any correspondence.

Dated: January 24, 2001.
By direction of the Secretary.
Donald L. Neilson,
Director, Information Management Service.

[FR Doc. 01-3862 Filed 2-14-01; 8:45 am]

BILLING CODE 8320-01-P